DEPARTMENT OF THE INTERIOR

Fish and Wildlife Service

[FWS-R9-IA-2008-N0026; 96300-1671-0000-P5]

Receipt of Applications for Permit

AGENCY: Fish and Wildlife Service, Interior.

ACTION: Notice of receipt of applications for permit.

SUMMARY: The public is invited to comment on the following applications to conduct certain activities with endangered species.

DATES: Written data, comments or requests must be received by March 27, 2008.

ADDRESSES: Documents and other information submitted with these applications are available for review, subject to the requirements of the Privacy Act and Freedom of Information Act, by any party who submits a written request for a copy of such documents within 30 days of the date of publication of this notice to: U.S. Fish and Wildlife Service, Division of Management Authority, 4401 North Fairfax Drive, Room 212, Arlington, Virginia 22203; fax 703/358-2281.

FOR FURTHER INFORMATION CONTACT: Division of Management Authority, telephone 703/358-2104.

SUPPLEMENTARY INFORMATION:

Endangered Species

The public is invited to comment on the following applications for a permit to conduct certain activities with endangered species. This notice is provided pursuant to section 10(c) of the Endangered Species Act of 1973, as amended (16 U.S.C. 1531 et seq.). Written data, comments, or requests for copies of these complete applications should be submitted to the Director (address above).

Applicant: The Peregrine Fund, Boise, ID, PRT-065258.

The applicant requests renewal of their permit to import, export, and re-export multiple shipments of biological samples from wild, captive-held, and/or captive born endangered species of the Order Falconiformes and Strigiformes from worldwide sources, for the purpose of scientific research. No animals can be intentionally killed for the purpose of collecting specimens. Any invasively collected samples can only be collected by trained personnel. This notification covers activities conducted by the applicant over a period of 5 years.

Applicant: Zoological Society of San Diego, San Diego, CA, PRT-171205.

The applicant requests a permit to export biological samples from one male captive-born ring-tailed lemur (Lemur catta) to Dr. Werner Schempp, Albert-Ludwig Universitat, Freiburg, Germany, for the purpose of scientific research.

Applicant: Orlando Deandar, McAllen, TX, PRT-173461.

The applicant requests a permit to import the sport-hunted trophy of one male bontebok (Damaliscus pygargus pygargus) culled from a captive herd maintained under the management program of the Republic of South Africa, for the purpose of enhancement of the survival of the species.

Applicant: Spencer C. Scott, San Antonio, TX, PRT-147912.

The applicant requests a permit to import the sport-hunted trophy of one male black Rhinoceros (Diceros bicornis) taken from a ranch in the Republic of South Africa, for the purpose of enhancement of the survival of the species.

Applicant: Field Museum of Natural History, Chicago, IL, PRT-698170.

The applicant requests renewal of their permit to export and re-import non-living museum specimens of endangered and threatened species of plants and animals previously accessioned into the applicant's collection for scientific research. This notification covers activities to be conducted by the applicant over a five-year period.

Dated: February 1, 2008.
Lisa J. Lierheimer,
Senior Permit Biologist, Branch of Permits, Division of Management Authority.

[FR Doc. E8-3630 Filed 2-25-08; 8:45 am]

BILLING CODE 4310-55-P